DEPARTMENT OF LABOR

Office of the Secretary

Submission for OMB Review; Comment Request

May 30, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-mail to King-Darrin@dol.gov).

Comments should be sent to Office of Information and Regulatory Affairs; Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submission of responses.

Agency; Occupational Safety and Health Administration (OSHA).

Title: Reporting of Fatality and Multiple Hospitalization Incidents.

Type of Review: Extension of a currently approved collection.

OMB Number: 1218-0007.

Frequency: On occasion.

Affected Public: Business or other for-profit; not-for-profit institutions; farms; State, Local or Tribal Government.

Number of Respondents: 3,064.

Total Annual Responses: 3,064.

Estimated Time Per Response: 15 minutes.

Total Annualized Capital/Startup costs: $0.

Total Annual Costs (operating/maintaining systems or purchasing services): $0.

Total Burden Hours: 766.

Description: 29 CFR 1904.8 requires all workplace fatalities and incidents involving the in-patient hospitalization of three or more employees to be reported to OSHA within 8 hours of the incident. The information collected is used to schedule fatality/catastrophe investigations and inspections. OSHA's Field Inspection Reference Manual contains the prioritization scheme for the scheduling of Agency inspections. In this scheme, fatality/catastrophe inspections are second in priority only to inspections of reports of imminent danger.

Agency: Occupational Safety and Health Administration (OSHA).

Title: Cotton Dust (29 CFR 1910.1043).

Type of Review: Extension of a currently approved collection.

OMB Number: 1218-0061.

Frequency: On occasion.

Affected Public: Business or other for-profit; Federal government; State, Local or Tribal Government.

Number of Respondents: 457.

Total Annual Responses: 280,655.

Estimated Time Per Respondent: Time for response ranges from approximately 5 minutes to provide information to the examining physician to 2 hours to conduct exposure monitoring.

Total Burden Hours: 75,695 hours.

Total Annualized Capital/Startup: $0.

Total Annual Costs (operating/maintaining systems or purchasing services): $6,059,756.

Description: The information collection requirements specified in the Cotton Dust Standard provide protection for employees from the adverse health effects associated with exposure to cotton dust. In this regard, the Cotton Dust Standard requires employers to monitor employee's exposure to cotton dust, monitor employee health, and provide employees with information about their exposures and the health effects of exposure to cotton dust.

Agency: Occupational Safety and Health Administration (OSHA).

Title: Acrylonitrile (29 CFR 1910.1045).

Type of Review: Extension of a currently approved collection.

OMB Number: 1218-0126.

Frequency: On occasion.

Affected Public: Business or other for-profit; Federal Government; State, Local or Tribal Government.

Number of Respondents: 23.

Estimated Time Per Respondent: Varies from 5 minutes to provide information to the examining physician to 2 hours for employers to provide the Occupational Safety and Health Administration's (OSHA) area offices with information about Acrylonitrile (AN) emergencies.

Total Annual Responses: 18,960.

Total Burden Hours: 4,182 hours.

Total Annualized Capital/Startup: $0.

Total Annual Costs (operating/maintaining systems or purchasing services): $197,314.

Description: The information-collection requirements specified in the AN Standard protect employees from the adverse health effects that may result from their exposure to AN. The major information-collection requirements of the AN Standard include notifying employees of their AN exposures, implementing a written compliance program, providing examining physicians with specific information, ensuring that employees receive a copy of their medical-examination results, maintaining employees' exposure-monitoring and medical records for specific periods, and providing access to these records by OSHA, the National Institute for Occupational Safety and Health, the affected employees, and designated representatives.

Agency: Employment and Training Administration (ETA).

Title: Petition for Adjustment Assistance/Solicitude DE Assistancia Para Ajuste.

Type of Review: Extension of a currently approved collection.

OMB Number: 1205-0192.

Form Number: ETA 8560 (English) and ETA 9559 (Spanish).

Affected Public: Individuals or households; business or other for-profit.

Frequency: On occasion.

Number of Respondents: 1,400.

Estimated Time Per respondent: 15 Minutes.

Total Burden: 350 Hours.

Total Annualized Capital/Startup costs: $0.

Total Annual Costs (operating/maintaining systems or purchasing services): $0.

Description: The petitions are used by American workers applying to the U.S. Department of Labor for eligibility to receive worker Trade Adjustment Assistance in accordance with provisions of the Trade Act of 1974, as amended. The petition initiates an action by the Department of Labor to determine if the workers are eligible.

Ira L. Mills,
Departmental Clearance Officer.

[FR Doc. 00-14148 Filed 6-5-00; 8:45 am]

BILLING CODE 4510-26-M